DEPARTMENT OF THE TREASURY

Departmental Offices

Privacy Act of 1974, as Amended: System of Records

AGENCY: Departmental Offices, Treasury.

ACTION: Notice of alteration of Privacy Act System of Records.

SUMMARY: The Department of the Treasury, Departmental Offices (DO), gives notice of a proposed alteration to the system of records entitled “Personnel Security System—Treasury/DO .004,” which is subject to the Privacy Act of 1974, as amended (5 U.S.C. 552a). The system notice was last published in its entirety on December 17, 1998, at 63 FR 69721.

DATES: Comments must be received no later than January 16, 2001. The proposed alteration will be effective January 24, 2001 unless DO receives comments which would result in a contrary determination.

ADDRESSES: Comments must be submitted to the Department of the Treasury, Departmental Offices, 1500 Pennsylvania Avenue, NW, Room 3180 Annex, Washington, DC 20220. Comments received will be available for inspection at the same address between the hours of 8:30 a.m. and 4:30 p.m. Monday through Friday.

FOR FURTHER INFORMATION CONTACT: Ann Tursic, Office of Security, (202) 622-1120.

SUPPLEMENTARY INFORMATION: The original publication of this system of records concerned the collection of information relevant to, or necessary for, making suitability, employability retention, or security clearance determinations. The Department is altering this system to: (1) Include the Disclosure and Written Authorization form that is mandated by the amendments to the Fair Credit and Reporting Act; (2) delete the current routine use and add six new routine uses; (3) add contractor employees as a category of individuals covered by the system; (4) create a Treasury-wide notice; (5) add system locations and managers; and (6) revise the retention and disposal of the records on government and contractor employees.

The following notices of systems of records maintained by Treasury bureaus will be deleted on January 24, 2001.

ATF .006—Internal Security Record System;

CC .014—Personnel Security/Investigation Files/Employee/ Applicant Reference File

BEP .044—Personnel Security Files and Indices;

FMS .008—Personnel Security Records;

Mint .002—Current Employee Security Identification Record;

OTS .013—Personnel Security and Suitability Program.

A segment of the records formerly maintained in Treasury/IRS 60.008—Security, Background, and Character Investigation Files, Inspection, and which were transferred to the Treasury Inspector General for Tax Administration (TIGTA), pursuant to the IRS Restructuring and Reform Act of 1998, are included in this Treasury-wide Privacy Act notice. Other records formerly maintained in Treasury/IRS 60.008, were transferred to the Assistant Commissioner (Support Services) and are now included in Treasury/IRS 34.021—Personnel Security Investigations, National Background Investigations Center, as published on June 15, 1999, at 64 FR 32096.

The altered system of records report as required by 5 U.S.C. 552a(r) of the Privacy Act has been submitted to the Committee on Government Reform of the House of Representatives, the Committee on Governmental Affairs of the Senate, and the Office of Management and Budget, pursuant to Appendix I to OMB Circular A-130, “Federal Agency Responsibilities for Maintaining Records About Individuals,” dated February 8, 1996.

The Department proposes to alter system of records “Treasury/DO .004—Personnel Security System” as noted above. The notice is published in its entirety below.

Date: December 7, 2000.
W. Earl Wright, Jr.,
Chief Management and Administrative Programs Officer.

Treasury/DO .004

System name:

Personnel Security System-Treasury/DO.

System location:

Department of the Treasury, 1500 Pennsylvania Avenue NW, Room 3180 Annex, Washington, DC 20220. Other locations at which the system is maintained by Treasury bureaus and their associated offices are:

1. a. Departmental Offices (DO): 1500 Pennsylvania Ave., NW, Washington, DC 20220.

b. Financial Crimes Enforcement Network (FinCEN): 2070 Chain Bridge Road, Vienna, VA 22182.

c. The Office of Inspector General (OIG): 740 15th Street, NW, Washington, D.C. 20220.

d. Treasury Inspector General for Tax Administration (TIGTA): 1111 Constitution Ave., NW, Washington, DC 20224.

2. Bureau of Alcohol, Tobacco and Firearms (ATF): 650 Massachusetts Avenue, NW, Washington, D.C. 20226.

3. Office of the Comptroller of the Currency (OCC): 250 E Street, SW, Washington, DC 20219-0001.

4. United States Customs Service (CS): 1300 Pennsylvania Avenue, NW, Washington D.C. 20229

5. Bureau of Engraving and Printing (BEP): 14th & C Streets, SW, Washington, D.C. 20228.

6. Federal Law Enforcement Training Center (FLETC): Glynco, GA. 31524.

7. Financial Management Service (FMS): 401 14th Street, SW, Washington, D.C. 20227.

8. United States Mint (MINT): 801 9th Street, NW, Washington, DC 20220.

9. Bureau of the Public Debt (BPD): 200 Third Street, Parkersburg, WV 26101.

10. Office of Thrift Supervision (OTS): 1700 G Street, NW, Washington, D.C. 20552.

Categories of individuals covered by the system:

(1) Current and former government employees, applicants and contractor employees occupying or applying for sensitive positions in the Department, (2) current and former senior officials of the Department and Treasury bureaus, and those within the Department who are involved in personnel security matters, and (3) current employees, applicants and contractor employees who are appealing a denial or a revocation of a security clearance.

Categories of records in the system:

(1) Background investigations, (2) FBI and other agency name checks, (3) investigative information relating to personnel investigations conducted by the Department of the Treasury and other Federal agencies and departments on a pre-placement and post-placement basis to make suitability and employability determinations and for granting security clearances, (4) card records comprised of Notice of Personnel Security Investigation (TD F 67-32.2) or similar previously used card indexes, and (5) an automated data system reflecting identification data on applicants, incumbents and former employees, disclosure and authorization forms, and record of investigations, level and date of security clearance, if any, as well as status of investigations, and (6) records pertaining to the appeal of a denial or a revocation of a security clearance.

Authority for maintenance of the system:

Executive Order 10450, Sections 2 and 3, Executive Order 12958, and Executive Order 12968.

Purpose(s):

This system is used to maintain records that assure the Department is upholding the highest standards of integrity, loyalty, conduct, and security among its personnel and contract employees.

Routine uses of records maintained in the system, including categories of users and the purposes of such uses:

These records may be used to disclose information to:

(1) appropriate Federal, state, local and foreign agencies for the purpose of enforcing and investigating administrative, civil or criminal law relating to the hiring or retention of an employee; issuance of a security clearance, license, contract, grant or other benefit;

(2) a court, magistrate, or administrative tribunal in the course of presenting evidence, including disclosures to opposing counsel or witnesses in the course of or in preparation for civil discovery, litigation, or settlement negotiations, in response to a subpoena where relevant or potentially relevant to a proceeding, or in connection with criminal law proceedings;

(3) the Department of Justice, or in a proceeding before a court, adjudicative body, or other administrative body before which the Department of the Treasury is authorized to appear, when: (a) The Department of the Treasury, or any component thereof; or (b) any employee of the Department of the Treasury in his or her official capacity; or (c) any employee of the Department of the Treasury in his or her individual capacity where the Department of Justice or the Department of the Treasury has agreed to represent the employee; or (d) the United States, when the Department of the Treasury determines that litigation is likely to affect the Department of the Treasury or any of its components; is a party to litigation or has an interest in such litigation, and the use of such records by the Department of Justice or the Department of the Treasury is deemed by the Department of the Treasury to be relevant and necessary to the litigation; provided, however, that the disclosure is compatible with the purpose for which records were collected;

(4) a congressional office in response to an inquiry made at the request of the individual to whom the record pertains;

(5) third parties during the course of an investigation to the extent necessary to obtain information pertinent to the investigation;

(6) the Office of Personnel Management, Merit Systems Protection Board, Equal Employment Opportunity Commission, Federal Labor Relations Authority, and the Office of Special Counsel for the purpose of properly administering Federal personnel systems or other agencies' systems in accordance with applicable laws, Executive Orders, and regulations; and

(7) unions recognized as exclusive bargaining representatives under 5 U.S.C. chapter 71, and other parties responsible for the administration of the Federal labor-management program if needed in the performance of their authorized duties.

Policies and practices for storing, retrieving, accessing, retaining, and disposing of records in the system:

Storage:

File folders, index cards, and magnetic media.

Retrievability:

Records are retrieved by name.

Safeguards:

Paper records are stored in locked metal containers and in locked rooms. Electronic records are password protected. Access is limited to officials who have a need to know in the performance of their official duties and whose background investigations have been favorably adjudicated.

Retention and Disposal:

The records on government employees and contractor employees are retained for the duration of their employment at the Treasury Department. The records on applicants not selected and separated employees are destroyed or sent to the Federal Records Center in accordance with General Records Schedule 18.

System Manager(s) and Address:

Department of the Treasury: Official prescribing policies and practices: Director of Security, 1500 Pennsylvania Avenue, NW., Room 3180 Annex, Washington, DC 20220.

The system managers for the Treasury components are:

1. (a) DO: Director of Security, 1500 Pennsylvania Avenue, NW., Washington, DC 20220.

(b) FinCEN: Security Director, 2070 Chain Bridge Road, Vienna, VA 22182.

(c) OIG: Personnel Officer, 740 15th St., NW, Suite 510, Washington, DC 20220.

(d) TIGTA: Security Officer, 1111 Constitution Ave., NW, Washington, DC 20224.

2. ATF: Deputy Assistant Director (Management), 650 Massachusetts Avenue, NW, Washington, DC 20226.

3. BPD: Director, Division of Administrative Services, 200 Third Street, P.O. Box 1328, Parkersburg, WV 26106-1318.

4. USCS: Chief, Security Management Branch, 1300 Pennsylvania Avenue, NW, Washington, DC 20229.

5. FLETC: Associate Director for Planning & Resources, Glynco, GA 31524.

6. OCC: Director, Administrative Services Division, 250 E Street, SW, Washington, DC 20219.

7. BEP: Chief, Office of Security, 14th & C Streets, NW, Room 113M, Washington, DC 20228.

8. FMS: Director, Administrative Programs Division, 3700 East West Highway, Hyattsville, MD 20782.

9. Mint: Director of Security, 801 9th Street, NW, Washington, DC 20220.

10. OTS: Director, Procurement and Administrative Services, 1700 G Street, NW, Washington, DC 20552.

Notification Procedure:

Individuals wishing to be notified if they are named in this system of records, or who seek access to any record contained in the system of records, or seek to contest its content, may inquire in accordance with instructions given in the Appendix for each Treasury component appearing at 31 CFR Part 1, Subpart C.

Record Access Procedures:

See “Notification procedure” above.

Contesting Record Procedures:

See “Notification procedure” above.

Record Source Categories:

The information provided or verified by applicants or employees whose files are on record as authorized by those concerned, information obtained from current and former employers, co-workers, neighbors, acquaintances, educational records and instructors, and police and credit record checks.

Exemptions Claimed for the System:

This system is exempt from 5 U.S.C. 552a (c)(3), (d)(1), (2), (3), and (4), (e)(1), (e)(4)(G), (H), and (I), and (f) of the Privacy Act pursuant to 5 U.S.C. 552a(k)(5). (See 31 CFR 1.36).

[FR Doc. 00-31794 Filed 12-13-00; 8:45 am]

BILLING CODE 4810-25-P